DEPARTMENT OF LABOR

Employment and Training Administration

Notice of Intent To Renew the Advisory Committee on Apprenticeship (ACA) Charter

AGENCY: Employment and Training Administration (ETA), Labor.

ACTION: Notice of Intent to Renew Charter.

SUMMARY: The Secretary of Labor has determined that the renewal of a national advisory committee on apprenticeship is necessary and in the public interest. The Department of Labor intends to renew the ACA Charter with revisions. The revisions are not intended to change the purpose or the Committee's original intent. The revisions are a routine updating of the Charter to ensure closer alignment with the Department's strategic goals and priorities. The charter for the ACA will expire on January 31, 2013.

SUPPLEMENTARY INFORMATION: Registered Apprenticeship is a unique public private partnership that is highly dependent on the engagement and involvement of its stakeholders and partners for its ongoing operational effectiveness. Apart from the ACA, there is no single organization or group with the broad representation of labor, employers, and the public available to consider the complexities and relationship of apprenticeship activities to other training efforts or to provide advice on such matters to the Secretary and DOL officials. It is particularly important to have such considerations at this time in view of the current widespread and national interest in the role apprenticeship can play in providing career pathways for all populations in a range of high growth industries, including healthcare and manufacturing. For these reasons, the Secretary of Labor has determined that the renewal of a national advisory committee on apprenticeship is necessary and in the public interest. The ACA is being renewed to provide advice and recommendations to the Secretary on the following: (1) The development and implementation of policies, legislation and regulations affecting the national Registered Apprenticeship system; (2) strategies that can expand the use of the Registered Apprenticeship model in non-traditional industries such as, but not limited to manufacturing, energy, and healthcare; (3) ways to more effectively partner with the public workforce system and educational institutions and communities to leverage Registered Apprenticeship as a valued post secondary credential; (4) the development of career pathways that can lead to good jobs for everyone and sustained employment for new and incumbent workers, youth, veterans, women, minorities and other under-utilized and disadvantaged populations; and (5) efforts to improve performance, quality and oversight, and utilization of the national Registered Apprenticeship system.

The current ACA Charter will expire on January 31, 2013. The ACA's Charter is required to be renewed every two years. Since the Charter was last renewed in January 2011, it has been revised in five sections to ensure alignment with departmental priorities. The following five sections have been updated: (1) The Objectives and Scope of Activities section was streamlined to be more concise and in line with current priorities; (2) the Description of Duties section was reviewed and edited to more closely reflect the needs of the Department and the advice and recommendations sought from the ACA at this time; (3) the Estimated Annual Operating Costs and Staff Years section was modified to reflect the ongoing efforts by the Department to reduce overall operating costs associated with the ACA; (4) the Estimated Number and Frequency of Meetings section has been updated to reflect the increasing trend to utilize multiple meeting formats, including the use of the virtual meeting format, as well as to reduce the number of anticipated annual face-to-face meetings; and (5) the Membership and Designation section was changed to include a range rather than a number to provide the Secretary with additional flexibility to maintain committee balance and accommodate changes in membership due to retirements, member withdrawals, or resignations.

FOR FURTHER INFORMATION CONTACT: Mr. John V. Ladd, Administrator, Office of Apprenticeship, Employment and Training Administration, U.S. Department of Labor, Room N-5311, 200 Constitution Avenue NW., Washington, DC 20210. Telephone: (202) 693-2796, (this is not a toll-free number).

Signed at Washington, DC, this 2nd day of January, 2013.
Jane Oates,
Assistant Secretary for the Employment and Training Administration.

[FR Doc. 2013-00372 Filed 1-10-13; 8:45 am]

BILLING CODE 4510-FR-P